DEPARTMENT OF COMMERCE

International Trade Administration

[A-570-933]

Frontseating Service Valves From the People's Republic of China: Notice of Second Extension of Time Limit for the Preliminary Results of the Antidumping Duty Administrative Review

AGENCY: Import Administration, International Trade Administration, Department of Commerce.

DATES: Effective Date: March 7, 2012.

FOR FURTHER INFORMATION CONTACT: Laurel LaCivita or Brooke Kennedy, AD/CVD Operations, Office 8, Import Administration, International Trade Administration, U.S. Department of Commerce, 14th Street and Constitution Avenue NW., Washington, DC 20230; telephone: (202) 482-4243 or (202) 482-3818, respectively.

SUPPLEMENTARY INFORMATION:

Background

On May 27, 2011, the Department of Commerce (“the Department”) published in the Federal Register a notice of initiation of an administrative review of the antidumping duty order on frontseating service valves from the People's Republic of China for the period April 1, 2010, through March 31, 2011.¹ On December 13, 2011, the Department extended the deadline for the preliminary results by 90 days, to March 30, 2012.²

¹ See Initiation of Antidumping and Countervailing Duty Administrative Reviews, 76 FR 30912 (May 27, 2011).

² See Frontseating Service Valves from the People's Republic of China: Extension of Time for the Preliminary Results of the Antidumping Duty Administrative Review, 76 FR 77479 (December 13, 2011).

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review by March 30, 2012, is not practicable because the Department requires additional time to analyze information pertaining to the respondents' sales practices, factors of production, as well as issue and review responses to supplemental questionnaires. Therefore, in accordance with section 751(a)(3)(A) of the Act, we are extending the time limit for completion of the preliminary results of this administrative review by 30 additional days, until April 29, 2012. However, because April 29, 2012, falls on a weekend, the preliminary results are now due no later than April 30, 2012.³

³ See Notice of Clarification: Application of “Next Business Day” Rule for Administrative Determination Deadlines Pursuant to the Tariff Act of 1930, As Amended, 70 FR 24533 (May 10, 2005).

This notice is published in accordance with sections 751(a)(3)(A) and 777(i)(1) of the Act.

Dated: March 1, 2012.
Gary Taverman,
Acting Deputy Assistant Secretary for Antidumping and Countervailing Duty Operations.

[FR Doc. 2012-5580 Filed 3-6-12; 8:45 am]

BILLING CODE 3510-DS-P